TENNESSEE VALLEY AUTHORITY

Environmental Impact Statement for Addition of Electric Generation Peaking Capacity at Greenfield Sites, Mississippi

AGENCY: Tennessee Valley Authority.

ACTION: Notice of intent.

SUMMARY: The Tennessee Valley Authority (TVA) will prepare an environmental impact statement (EIS) for the proposed construction and operation of a natural gas-fired generating plant in Mississippi. The plant would supply peaking capacity to the TVA electric generation system to meet growing power demands. The EIS will evaluate the potential environmental impacts of constructing and operating a simple-cycle, natural gas-fired combustion turbine plant. TVA may build and operate such a plant or, alternatively, TVA may choose to purchase power from such a plant owned by others in order to meet TVA's needs. If built by TVA, the plant would be constructed on a previously undeveloped, greenfield site. TVA will use the EIS process to obtain public involvement on this proposal. Public comment is invited concerning both the scope of the EIS and environmental issues that should be addressed as a part of the EIS.

DATES: Comments on the scope and environmental issues for the EIS must be postmarked or e-mailed no later than September 5, 2000 to ensure consideration. Late comments will receive every consideration possible.

ADDRESSES: Written comments should be sent to Bruce L. Yeager, NEPA Specialist, Environmental Policy and Planning, Tennessee Valley Authority, Mail stop WT 8B, 400 West Summit Hill Drive, Knoxville, Tennessee 37902-1499. Comments may be e-mailed to blyeager@tva.gov.

FOR FURTHER INFORMATION CONTACT: Roy V. Carter, P.E., EIS Project Manager, Energy Research and Technology Applications, Tennessee Valley Authority, Mail stop CEB 4C, Muscle Shoals, Alabama 35662-1010. E-mail may be sent to rvcarter@tva.gov.

SUPPLEMENTARY INFORMATION:

Project Description

TVA proposes to construct and operate an electric power plant as early as June 2002. The proposed plant would be a simple-cycle, natural gas-fired combustion turbine plant for peaking operation. The generation capacity of the plant would be up to approximately 340 megawatts (MWs) for peaking power.

Several candidate greenfield sites have been identified in Mississippi. These candidate sites were identified through a detailed screening process that considered: (1) TVA's need for generating capacity; (2) transmission system stability across TVA's service region; (3) transmission system capacity at the locale; (4) reliability and economy of long-term supply of natural gas; (5) engineering suitability of the site; (6) compatibility with surrounding land use; and (7) environmental factors including wetlands, floodplains, water supply, water quality, air quality, and historic and archaeological resources.

Peaking Plant

A typical peaking plant would consist of four simple-cycle combustion turbines such as the General Electric Model GE 7EA with a rated net power output of 85 MWs. These turbines would be fired with natural gas as the primary fuel and low sulfur fuel oil as the secondary fuel. These combustion turbines would employ dry low-NOX combustion chambers and water injection for NOX control when firing fuel oil.

The proposed sites would be located near TVA power transmission lines or substation and adequate natural gas service to minimize the lengths and, therefore, the cost of these interconnections. A plant would require a site area of approximately 50 acres.

Other appurtenances and ancillary equipment would include step-up transformers for 161 kV or 500 kV service, transmission line interconnection, natural gas pipeline connection and metering, demineralized water supply for the water injection NOX control systems, fuel oil storage tank(s), and control and maintenance support buildings.

TVA's Integrated Resource Plan and the Need for Power

This EIS will tier from TVA's Energy Vision 2020: An Integrated Resource Plan and Final Programmatic Environmental Impact Statement. Energy Vision 2020 was completed in December 1995 and a Record of Decision issued on February 28, 1996 (61 FR 7572). Energy Vision 2020 analyzed a full range of supply-side and demand-side options to meet customer energy needs for the period 1995 to 2020. These options were ranked using several criteria including environmental performance. Favorable options were formulated into strategies. A group of options drawn from several effective strategies was chosen as TVA's preferred alternative. The supply-side options selected to meet peaking and baseload capacity needs through the 2005 period included: (1) Addition of simple-cycle or combined-cycle combustion turbines to TVA's generation system, (2) purchase of call options for peaking or baseload capacity, and (3) market purchases of peaking or baseload capacity. The short-term action plan of Energy Vision 2020 identified a need for 3,000 MWs of baseload and peaking additions through the year 2002. This is in addition to the baseload capacity additions of the successful completion of Watts Bar Nuclear Plant Unit 1 and the return-to-service of Browns Ferry Nuclear Plant Unit 3.

Each year TVA provides updated projections of supply and demand for the TVA sub-region of the Southeastern Electric Reliability Council (SERC). This is for the U.S. Department of Energy's (DOE) annual report, EIA-411. This year's report (2000) shows expected peak demands growing at 2.4 percent from 2000 to 2005 and beyond. The net capacity resources needed to meet the growth in demand increases 2,000 MWs by the year 2002, and 3,200 MWs by the year 2004. The addition of the combustion turbines is needed by TVA to meet the peaking capacity requirements from both a reliability and cost standpoint.

Since 1995, additional power needs have been met or will be met through the following steps: (1) Continuing to modernize existing TVA hydroelectric plants (both conventional and pumped storage) and, thus, adding approximately 388 MWs of peaking capacity through 2002; (2) completion in 2001 of the Red Hills Power Project, a 440 MW lignite coal-fired plant supplying baseload power commercially (TVA Record of Decision, 63 FR 44944); (3) the installation and operation in 2000 of 680 MWs of peaking power capacity at the TVA Johnsonville and Gallatin Fossil Plants (TVA Record of Decision, 64 FR 138); (4) the installation and operation of up to 1,400 MWs of peaking power capacity at a greenfield site in Haywood County, Tennessee (TVA Record of Decision, 64 FR 92); (5) the completion of various power purchase agreements in effect over this period; (6) the implementation of demand-side customer service programs through TVA power distributors with an estimated 154 MWs of capacity added from 1995 to 2002 and an additional 264 MWs from 2000 through 2002; (7) the pursuance of distributed generation initiatives by TVA, including the operation of the 14 MW emergency diesel generators at the unfinished Bellefonte Nuclear Power Plant site; and (8) the implementation of a Green Power Program in 2000 as a market test providing several MWs of capacity. Technologies for this program include landfill gas, photovoltaics, and wind.

Because Energy Vision 2020 identified and evaluated alternative supply-side and demand-side energy resources and technologies for meeting peak and baseload capacity needs, this EIS will not reevaluate those alternatives. This EIS will focus on the site-specific impacts of constructing and operating simple-cycle combustion turbines at candidate sites.

Proposed Issues To Be Addressed

The EIS will describe the existing environmental and socioeconomic resources at and in the vicinity of each candidate site that would be affected by the construction and operation of the proposed power plant. TVA's evaluation of environmental impacts to these resources will include, but not necessarily be limited to, the potential impacts on air quality, water quality, aquatic and terrestrial ecology, endangered and threatened species, wetlands, aesthetics and visual resources, noise, land use, historic and archaeological resources, and socioeconomic resources.

Alternatives

The results of evaluating the potential environmental impacts and other important issues identified in the scoping process together with engineering and economic considerations will be used by TVA in selecting a preferred alternative. Currently, TVA plans to evaluate in detail, the construction and operation of a simple-cycle combustion turbine peaking plant at two or more candidate sites in Mississippi by as early as May 2002, as well as the alternative of no action. All of the potential power plant sites currently under consideration are in Kemper County.

Scoping Process

Scoping, which is integral to the National Environmental Policy Act (NEPA) process, is a procedure that solicits public input to the EIS process to ensure that: (1) Issues are identified early and properly studied; (2) issues of little significance do not consume substantial time and effort; (3) the draft EIS is thorough and balanced; and (4) delays caused by an inadequate EIS are avoided. TVA's NEPA procedures require that the scoping process commence soon after a decision has been reached to prepare an EIS in order to provide an early and open process for determining the scope and for identifying the significant issues related to the proposed action. The scope of issues to be addressed in the draft EIS will be determined, in part, from written comments submitted by mail or e-mail, and comments presented orally or in writing at public meetings. The preliminary identification in this notice of reasonable alternatives and environmental issues is not meant to be exhaustive or final.

The scoping process will include both interagency and public scoping input. The public is invited to submit written comments or e-mail comments on the scope of this EIS no later than the date given under the DATES section of this notice.

TVA is conducting a public scoping meeting at the East Mississippi Community College, 1512 Kemper Street in Scooba, Mississippi on August 3, 2000. Registration is at 5:30 p.m. and the meeting begins at 6 p.m. At this meeting, TVA management and project staff will present an overview of the proposed power plant project, answer questions, and solicit comments on the issues that the public expresses an interest in having addressed in the EIS. The meeting was publicized through notices in local newspapers, through TVA press releases, and in meetings conducted between TVA officials and local elected officials preceding the public meetings.

The agencies to be included in the interagency scoping are U.S. Fish and Wildlife Service, U.S. Army Corps of Engineers, Mississippi Department of Environmental Quality, the Mississippi State Historic Preservation Officer, and other agencies as appropriate.

After consideration of the scoping comments, TVA will further develop alternatives and environmental issues to be addressed in the EIS. Following analysis of the environmental consequences of each alternative, TVA will prepare a draft EIS for public review and comment. The Environmental Protection Agency will publish a notice of availability (NOA) of the draft EIS in the Federal Register. In the NOA, TVA will solicit written comments on the draft EIS, as well as announce information pertaining to the schedule of public meetings to be held for the purpose of receiving comments on the draft EIS. TVA expects to release a draft EIS in December 2000 and a final EIS in April 2001.

Dated: July 25, 2000.
Kathryn J. Jackson,
Executive Vice-President, River System Operations and Environment.

[FR Doc. 00-19663 Filed 8-2-00; 8:45 am]

BILLING CODE 8120-08-P